NUCLEAR REGULATORY COMMISSION

Draft Regulatory Guide; Issuance, Availability

The Nuclear Regulatory Commission has issued for public comment a proposed revision of a guide in its Regulatory Guide Series. This series has been developed to describe and make available to the public such information as methods acceptable to the NRC staff for implementing specific parts of the NRC's regulations, techniques used by the staff in evaluating specific problems or postulated accidents, and data needed by the staff in its review of applications for permits and licenses.

The draft guide, temporarily identified by its task number, DG-1109 (which should be mentioned in all correspondence concerning this draft guide), is “Laboratory Investigations of Soils and Rocks for Engineering Analysis and Design of Nuclear Power Plants.” This draft guide is a proposed Revision 1 of Regulatory Guide 1.138, and it is being revised to describe laboratory investigations and testing practices that are acceptable to the NRC staff for determining soil and rock properties and characteristics needed for engineering analysis and design for foundations and earthworks for nuclear power plants. The state of the art of laboratory testing practices of soils and rocks is reflected in existing national standards, and this guide recommends and references such standards where appropriate.

This draft guide has not received complete staff approval and does not represent an official NRC staff position.

Comments may be accompanied by relevant information or supporting data. Written comments may be submitted to the Rules and Directives Branch, Office of Administration, U.S. Nuclear Regulatory Commission, Washington, DC 20555. Copies of comments received may be examined at the NRC Public Document Room, 11555 Rockville Pike, Rockville, MD. Comments will be most helpful if received by December 10, 2001.

You may also provide comments via the NRC's interactive rulemaking Web site through the NRC home page (http://www.nrc.gov). This site provides the availability to upload comments as files (any format) if your web browser supports that function. For information about the interactive rulemaking Web site, contact Ms. Carol Gallagher, (301) 415-5905; e-mail CAG@NRC.GOV. For information about the draft guide and the related documents, contact Mr. J. Philip at (301)415-6211; e-mail JXP@NRC.GOV.

Although a time limit is given for comments on this draft guide, comments and suggestions in connection with items for inclusion in guides currently being developed or improvements in all published guides are encouraged at any time.

Regulatory guides are available for inspection at the NRC's Public Document Room, 11555 Rockville Pike, Rockville, MD; the PDR's mailing address is USNRC PDR, Washington, DC 20555; telephone (301)415-4737 or (800)397-4205; fax (301)415-3548; e-mail PDR@NRC.GOV. Requests for single copies of draft or final guides (which may be reproduced) or for placement on an automatic distribution list for single copies of future draft guides in specific divisions should be made in writing to the U.S. Nuclear Regulatory Commission, Washington, DC 20555, Attention: Reproduction and Distribution Services Section; or by e-mail to DISTRIBUTION@NRC.GOV; or by fax to (301)415-2289. Telephone requests cannot be accommodated. Regulatory guides are not copyrighted, and Commission approval is not required to reproduce them.

(5 U.S.C. 552(a))

Dated at Rockville, Maryland, this 30th day of August 2001.
For the Nuclear Regulatory Commission.
Michael E. Mayfield,
Director, Division of Engineering Technology, Office of Nuclear Regulatory Research.

[FR Doc. 01-22625 Filed 9-7-01; 8:45 am]

BILLING CODE 7590-01-P